INTERNATIONAL TRADE COMMISSION

[USITC SE-13-008]

Sunshine Act Meeting

AGENCY HOLDING THE MEETING: United States International Trade Commission.

TIME AND DATE: March 21, 2013 at 11 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-489 and 731-TA-1201 (Final) (Drawn Stainless Steel Sinks from China). The Commission is currently scheduled to transmit its determinations and Commissioners' opinions to the Secretary of Commerce on or before April 4, 2013.

5. Outstanding action jackets: none

In accordance with Commission policy, subject matter listed above, not disposed of at the scheduled meeting, may be carried over to the agenda of the following meeting.

Dated: March 14, 2013.
By order of the Commission.
Lisa R. Barton,
Acting Secretary to the Commission.

[FR Doc. 2013-06265 Filed 3-14-13; 11:15 am]

BILLING CODE 7020-02-P